DEPARTMENT OF COMMERCE

National Institute of Standards and Technology

Call for Nominations To Serve on the NIST Safety Commission

AGENCY: National Institute of Standards and Technology, Department of Commerce.

ACTION: Notice.

SUMMARY: The Director of the National Institute of Standards and Technology (NIST) intends for a new federal advisory committee to be established, the NIST Safety Commission (Commission). The Commission would provide advice to the NIST Director on matters relating to NIST safety policies; safety management system, practices, and performance; and safety culture. NIST invites and requests nominations of individuals for appointment to the Commission. Registered federal lobbyists may not serve on NIST federal advisory committees in an individual capacity.

DATES: Nominations to serve on the Commission must be submitted by 5 p.m. eastern time on November 17, 2022. After initial members are appointed, nominations for the Commission will be accepted on an ongoing basis and will be considered if vacancies arise.

ADDRESSES: Please submit nominations to Alicia Chambers, Committee Liaison Officer, National Institute of Standards and Technology, 100 Bureau Drive, MS 1000, Gaithersburg, MD 20899 or via email to alicia.chambers@nist.gov.

FOR FURTHER INFORMATION CONTACT: Dr. S. Shyam Sunder, Director of the Special Programs Office and Chief Data Officer, National Institute of Standards and Technology, at 301-975-6713 or sunder@nist.gov.

SUPPLEMENTARY INFORMATION:

Commission Information

The NIST Director intends for a new federal advisory committee to be established, the NIST Safety Commission (Commission). The Commission would provide advice to the NIST Director on matters relating to NIST safety policies; safety management system, practices, and performance; and safety culture. It is anticipated that the Commission would carry out its activities over the period of one year, and convene approximately three times. The Commission would function solely as an advisory body, in accordance with the provisions of Federal Advisory Committee Act, as amended, 5 U.S.C. app. The Commission would be tasked with assessing the state of NIST's safety culture and how effectively the existing safety protocols and policies have been implemented across NIST. The Commission may consider:

a. the quality and completeness of NIST safety directives and programs;

b. the performance of safety protocols; and

c. the impacts of the pandemic and hybrid work environment on safety.

The Commission would submit oral and written reports to the NIST Director on its findings, including an oral briefing of its preliminary findings within 75 days of beginning its activities, and written findings within 150 days of beginning its activities.

Members of the Commission would be appointed by the Director of NIST. The Commission would be composed of not more than seven members who are qualified to provide advice to the NIST Director on matters relating to safety policies; safety management system, practices, and performance; and safety culture.

Commission membership would be balanced fairly and drawn from industry, academia, federal laboratories, and other relevant sectors. Membership would also consider balance among the broad diversity of disciplinary specialties represented in the NIST Laboratories, including the physical sciences; chemical, biological, and materials sciences and engineering; structural engineering and fire research; manufacturing and mechanical engineering; and information and communication technologies. NIST will consider candidates with established records of distinguished service who are either a current or former member of the NIST Visiting Committee on Advanced Technology, a member of the first or second NIST Blue Ribbon Commission on Management and Safety, or a qualified expert with public or private sector experience in one or more of the following areas: (a) management and organizational structure; (b) laboratory management and safety (c) safety training and operations; (d) hazardous materials safety and security; (e) emergency medical response; and (f) organizational safety culture.

Each member would serve for the duration of the Commission. Members would serve in their personal capacities as Special Government Employees (SGEs) as that term is defined in 18 U.S.C. 202. SGEs are subject to conflict-of-interest laws and regulations, including (but not limited to) the obligation to annually file a New Entrant Confidential Financial Disclosure Report (OGE Form 450) and complete ethics training. Members of the Commission who are full-time or permanent part-time federal officers or employees would be appointed pursuant to 41 CFR 102.3.130(h) to serve as Regular Government Employee (RGE) members. Members would be individually advised of the capacity in which they will serve through their appointment letters.

The Director of NIST would appoint the Commission Chair and a Vice-Chair to serve in the absence of the Chair from among the Commission membership. Both members would serve in those capacities for the duration of the Commission, at the pleasure of the Director.

Commission members would, upon request, be reimbursed for travel and per diem as it pertains to official business of the Commission in accordance with 5 U.S.C. 5701 et seq. Commission members would serve without compensation, except that federal government employees who are members of the Commission would remain covered by their compensation system pursuant to 41 CFR 102-3.130(h).

Members would not be permitted to reference or otherwise utilize their membership on the Commission in connection with public statements made in their personal capacities without a disclaimer that the views expressed are their own and do not represent the views of the Commission, NIST, the Department of Commerce, or the U.S. Government.

Nomination Information

1. Nominations are sought from all fields, sectors, and perspectives described above.

2. Each member should be a qualified expert with public or private sector experience in one or more of the following areas: (a) management and organizational structure; (b) laboratory management and safety; (c) safety training and operations; (d) hazardous materials safety and security; (e) emergency medical response; or (f) organizational safety culture. The field of eminence for which the candidate is qualified should be specified in the nomination letter. A summary of the candidate's qualifications should be included with the nomination, including (where applicable) current or former service on federal advisory boards and federal employment. In addition, each nomination letter should state that the candidate acknowledges the responsibilities of serving and will actively participate in good faith in the tasks of the Commission, as appropriate. Third-party nomination letters should state that the candidate agrees to the nomination.

3. NIST seeks a diverse Commission membership.

Alicia Chambers,
NIST Executive Secretariat.

[FR Doc. 2022-23825 Filed 11-1-22; 8:45 am]

BILLING CODE 3510-13-P